AGENCY FOR INTERNATIONAL DEVELOPMENT

Advisory Committee on Voluntary Foreign Aid; Notice of Meeting

Pursuant to the Federal Advisory Committee Act, notice is hereby given of a meeting of the Advisory Committee on Voluntary Foreign Aid (ACVFA).

Date: October 27, 2004 (9:15 a.m. to 3:30 p.m.).

Location: The National Press Club, 529 14th Street, NW., 13th Floor, Washington, DC 20045.

The meeting's morning session will feature discussions on the humanitarian crisis in Darfur by USAID and PVO officials and a presentation by Ambassador Carlos Pascual on the new Office of the Coordinator for Reconstruction and Stabilization in the U.S. Department of State. The afternoon session will feature a discussion on the Global Development Alliance, highlighting success stories and lessons learned. The meeting will close with an update on the Millennium Challenge Account.

The meeting is free and open to the public. Persons wishing to attend the meeting can register online at www.ACVFA.com or e-mail their name to Margaret Hill at Margaret.Hill@triumph-tech.com or Jocelyn Rowe at jrowe@usaid.gov.

Dated: September 30, 2004.
Jocelyn M. Rowe,
Executive Director, Advisory Committee on Voluntary Foreign Aid (ACVFA).

[FR Doc. 04-22397 Filed 10-5-04; 8:45 am]

BILLING CODE 6116-01-P